ENVIRONMENTAL PROTECTION AGENCY

[FRL-6962-7]

Proposed Settlement Under Section 122(h) of the Comprehensive Environmental Response, Compensation and Liability Act of 1980 (CERCLA), as Amended, Southern Cross Superfund Site, Hazelwood, Missouri

AGENCY: Environmental Protection Agency.

ACTION: Notice, request for public comment.

SUMMARY: The Environmental Protiection Agency (EPA) is proposing to enter into an administrative settlement to resolve claims under the Comprehensive Environmental Response, Compensation and Liability Act of 1980 (CERCLA), as amended 42 U.S.C. 9622(h). This settlement is intended to resolve the liability of the Chromalloy American Corporation for response costs incurred at the Southern Cross Superfund Site, 143 McDonnell Boulevard in Hazelwood, St. Louis County, Missouri.

DATES: Written comments must be provided on or before May 7, 2001.

ADDRESSES: Comments should be addressed to Steven L. Sanders, Assistant Regional Counsel, Office of Regional Counsel, United States Environmental Protection Agency, Region VII, 901 North 5th Street, Kansas City, Kansas 66101 and should refer to: In the Matter of Southern Cross Lumber Company Superfund Site, EPA Docket No. CERCLA-07-2001-0009.

The proposed administrative cost recovery settlement may be examined in person at the United States Environmental Protection Agency, Region VII, 901 North 5th Street, Kansas City, Kansas 66101. A copy of the proposed settlement may be obtained from Kathy Robinson, Regional Hearing Clerk, EPA Region VII, 901 North 5th Street, Kansas City, Kansas 66101, telephone (913) 551-7567.

FOR FURTHER INFORMATION CONTACT: Steven L. Sanders, Assistant Regional Counsel, Office of Regional Counsel, EPA Region VII, 901 North 5th Street, Kansas City, Kansas 66101, telephone (913) 551-7010.

Dated: March 26, 2001.
Michael J. Sanderson,
Director, Superfund Division, U.S. EPA, Region VII.

[FR Doc. 01-8481 Filed 4-5-01; 8:45 am]

BILLING CODE 6560-50-P